DEPARTMENT OF COMMERCE

National Oceanic and Atmospheric Administration

50 CFR Part 635

[Docket No. 190214111-9513-01]

RIN 0648-BI51

Atlantic Highly Migratory Species; Atlantic Bluefin Tuna Fisheries; Pelagic Longline Fishery Management; Correction

AGENCY: National Marine Fisheries Service (NMFS), National Oceanic and Atmospheric Administration (NOAA), Commerce.

ACTION: Proposed rule; correction.

SUMMARY: The National Marine Fisheries Service is correcting an error in the alternatives section of a proposed rule that published on July 12, 2019. In that proposed rule, NMFS proposes to adjust regulatory measures that reduce bluefin tuna bycatch in the pelagic longline fishery for Atlantic highly migratory species (HMS). The preferred alternative for the Spring Gulf of Mexico Gear Restricted Area includes an evaluation period to determine whether current area-based management measures remain necessary to reduce and/or maintain low numbers of bluefin tuna discards and interactions in the pelagic longline fishery. The description of this alternative included two timing errors, one about the evaluation period and one about the applicable months for actions within the alternative. This action corrects the errors.

DATES: Comments on the proposed rule must be submitted on or before September 30, 2019.

ADDRESSES: You may submit comments on this document, identified by NOAA-NMFS-2018-0035, by any one of the following methods:

• Electronic Submission: Submit all electronic public comments via the Federal e-Rulemaking Portal. Go to www.regulations.gov/#!docketDetail;D=NOAA-NMFS-2018-0035, click the “Comment Now” icon, complete the required fields, and enter or attach your comments.

• Mail: Submit written comments to Craig Cockrell, NMFS/SF1, 1315 East-West Highway, National Marine Fisheries Service, SSMC3, Silver Spring, MD 20910.

Instructions: Please include the identifier NOAA-NMFS-2018-0035 when submitting comments. Comments sent by any other method, to any other address or individual, or received after the close of the comment period, may not be considered by NMFS. All comments received are a part of the public record and generally will be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Jennifer Cudney, 727-824-5399 or Craig Cockrell, 301-427-8503.

SUPPLEMENTARY INFORMATION:

Need for Correction

On July 12, 2019, NMFS published a proposed rule in the Federal Register (84 FR 33205) that would adjust regulatory measures put in place to reduce bluefin tuna bycatch in the pelagic longline fishery for Atlantic highly migratory species (HMS). Specifically, the proposed measures address the Northeastern United States Closed Area, the Cape Hatteras Gear Restricted Area, and the Spring Gulf of Mexico Gear Restricted Area as well as the weak hook requirement in the Gulf of Mexico. As described in the proposed rule, the preferred alternative for the Spring Gulf of Mexico Gear Restricted Area included an evaluation period to determine whether the current area-based management measure remains necessary to reduce and/or maintain low numbers of bluefin tuna discards and interactions in the pelagic longline fishery. The description of this alternative cited both incorrect timing for the three-year evaluation period and incorrect timing for the months during which the pelagic longline fishery would be allowed to fish within a previously closed area under specific conditions. Corrections are necessary to provide an accurate description of this preferred alternative, which will be useful to the public as they prepare comment on the proposed rule.

The proposed rule provides a summary of how the Spring Gulf of Mexico Gear Restricted Area would be managed under the preferred alternative, appearing in bullet form on page 33208 of the Federal Register. The sentence preceding the bullets states that “This alternative would have a three-year evaluation period (January 1, 2010 through December 31, 2022) for the Monitoring Area . . .”. The parenthetical is incorrect and should instead read that the three-year evaluation period would be from “(January 1, 2020 through December 31, 2022).” The first bullet under this sentence incorrectly states that “The Monitoring Area would initially remain open to pelagic longline fishing from June 1 through June 30”. This bullet should instead note that the Monitoring Area would initially remain open to pelagic longline fishing from April 1 through May 31. The fourth bullet under this sentence states that “On or after the effective date of the notice, the Monitoring Area would be closed to pelagic longline fishing each year from June 1 through June 30, unless NMFS takes further action.” This bullet should instead state that “On or after the effective date of the notice, the Monitoring Area would be closed to pelagic longline fishing each year from April 1 through May 31, unless NMFS takes further action,” to correct the dates.

The same corrections need to be made in the IRFA that was prepared to meet requirements of Section 603 of the Regulatory Flexibility Act (RFA). Column 3 of page 33212 of the Federal Register provides a summary of how the Spring Gulf of Mexico Gear Restricted Area would be managed under the preferred alternative in bullet form. The sentence preceding the bullets states that “This alternative would have a three-year evaluation period (January 1, 2010 through December 31, 2022) for the Monitoring Area . . .”. The parenthetical is incorrect and should instead read that the three-year evaluation period would be from “(January 1, 2020 through December 31, 2022).” The first bullet under this sentence incorrectly states that “The Monitoring Area would initially remain open to pelagic longline fishing from June 1 through June 30”. This bullet should instead note that the Monitoring Area would initially remain open to pelagic longline fishing from April 1 through May 31. The fourth bullet under this sentence states that “On or after the effective date of the notice, the Monitoring Area would be closed to pelagic longline fishing each year from June 1 through June 30, unless NMFS takes further action.” This bullet should instead state that “On or after the effective date of the notice, the Monitoring Area would be closed to pelagic longline fishing each year from April 1 through May 31, unless NMFS takes further action,” to correct the dates.

Dated: August 5, 2019.
Samuel D. Rauch III,
Deputy Assistant Administrator for Regulatory Programs, National Marine Fisheries Service.

[FR Doc. 2019-16996 Filed 8-7-19; 8:45 am]

BILLING CODE 3510-22-P